DEPARTMENT OF AGRICULTURE

Forest Service

Notice of New Fee Site; Federal Lands Recreation Enhancement Act (Title VIII, Pub. L. 108-447)

AGENCY: Forest Service, USDA.

ACTION: Notice of new fee site and solicitation of comments.

SUMMARY: The Grand Mesa, Uncompahgre and Gunnison (GMUG) National Forests proposes to begin charging fees for the overnight rental of three cabins including the Matterhorn Guard Station, the Lone Cone Guard Station and the Alpine Guard Station. Rental of cabins on the GMUG National Forests and other National Forests of Colorado is very popular and shows that the public appreciates and enjoys the use and availability of historic rental cabins. Funds from the rentals will be used for the continued operation and maintenance of the rental cabins. The Matterhorn Guard Station is located in T41N, R9W, Section 5, NMPM, and the Lone Cone Station is located in T42N, R12W, Section 23, NMPM; both are in the Norwood Ranger District. The Alpine Guard Station is located in T46N, R5W, Section 24, NMPM, on the Gunnison Ranger District.

DATES: The sites are expected to become available for rent July 2010. Comments, concerns or questions about this new fee must be submitted by June 30, 2010.

ADDRESSES: Submit written comments, concerns or questions about the new fee for cabin rentals to Grand Mesa, Uncompahgre and Gunnison National Forests, Attn: Cabin Rental Program, 2250 Highway 50, Delta, Colorado 81416.

FOR FURTHER INFORMATION CONTACT: Kathy Peckham, Norwood Recreation Staff Officer, 970-327-4261 for the Matterhorn and Lone Cone Stations; or Leigh Ann Hunt, Forest Archaeologist, 970-874-6691 for the Alpine Guard Station.

SUPPLEMENTARY INFORMATION: The Federal Lands Recreation Enhancement Act (Title VIII, Pub. L. 108-447) directed the Secretary of Agriculture to publish a six-month advance notice in the Federal Register whenever new recreation fees are established. The intent of this notice is to give the public an opportunity to comment if they have concerns or questions about new fees.

This is an addition to the GMUG National Forest's existing cabin rental program. Other cabin rentals on the GMUG and other National Forests in Colorado are often fully booked throughout the rental season. The GMUG National Forest proposes to rent the cabins for $100 to $350 a night, but will conduct a market analysis to determine if the fees are both reasonable and acceptable for this unique recreation experience. People wanting to rent the cabins will need to make advance reservations through the National Recreation Reservation Service at http://www.Recreation.gov or by calling 1-877-444-6777. The National Recreation Reservation Service charges a fee for reservations.

Dated: January 4, 2010.
Corey P. Wong,
Staff Officer, Public Service.

[FR Doc. 2010-215 Filed 1-8-10; 8:45 am]

BILLING CODE 3410-11-P